NUCLEAR REGULATORY COMMISSION

Solicitation of Interest for Participation in U.S. Nuclear Regulatory Commission/Nuclear Energy Institute Working Groups

AGENCY: Nuclear Regulatory Commission.

ACTION: Solicitation of interest in working group participation.

FOR FURTHER INFORMATION CONTACT: James Smith, Project Manager, Technical Support Branch, Special Projects and Technical Support Directorate, Division of Fuel Cycle Safety and Safeguards, Office of Nuclear Material Safety and Safeguards, U.S. Nuclear Regulatory Commission, MS EBB2-C40M, Washington, DC 20555-0001. Telephone: (301) 492-3234; fax number: (301) 492-6521; e-mail: jas4@nrc.gov.

SUPPLEMENTARY INFORMATION:

I. Introduction

The U.S. Nuclear Regulatory Commission (NRC) held a public workshop with the Nuclear Energy Institute (NEI) and other stakeholders on June 14, 2007, to discuss certain issues related to implementation of Subpart H of 10 CFR Part 70: (1) Appendix A to Part 70, Reportable safety events, (2) refinement of the definition of uranium solubility under Part 70, 3) use of digital instrumentation and control (I&C) in safety and process settings, (4) § 70.72 Facility changes and change process, and (5) possible revisions to the NRC Enforcement Policy.

Small working groups comprised of NRC and industry representatives, as well as members of the public, will be formed to address four of the five issues. The use of digital I&C in fuel cycle safety and process settings will not be addressed since it is part of a larger NRC/NEI effort involving use of digital I&C in the commercial nuclear industry. The goal of the working groups is to develop regulatory guidance which would ultimately be approved by the NRC.

II. Summary

The purpose of this notice is to provide the public an opportunity to participate as members of the working groups. The number of persons participating in these groups will be limited to one or two; therefore, the first one or two person expressing interest in a particular group will have priority for participation. However, all meetings of these working groups will be open to the public and notice of these meetings will be posted on the NRC Web site. To express interest in participating in one or more of these working groups, please respond to the staff contact listed above by August 20, 2007.

Dated at Rockville, Maryland this 19th day of July 2007.
For the Nuclear Regulatory Commission.
Margie Kotzalas,
Chief, MOX Branch, Special Projects and Technical Support Directorate, Division of Fuel Cycle Safety, and Safeguards, Office of Nuclear Material Safety, and Safeguards.

[FR Doc. E7-14649 Filed 7-27-07; 8:45 am]

BILLING CODE 7590-01-P